DEPARTMENT OF LABOR

Employment and Training Administration

[TA-W-53,871]

Polyone, Inc., Burlington, NJ; Notice of Termination of Investigation

Pursuant to section 221 of the Trade Act of 1974, as amended, an investigation was initiated on December 23, 2003, in response to a worker petition filed by a state agency on behalf of workers at PolyOne, Inc., Burlington, New Jersey.

The petitioner has requested that the petition be withdrawn. Consequently, the investigation has been terminated.

Signed at Washington, DC, this 14th day of January, 2004.
Elliott S. Kushner,
Certifying Officer, Division of Trade Adjustment Assistance.

[FR Doc. 04-2614 Filed 2-5-04; 8:45 am]

BILLING CODE 4510-30-P